DEPARTMENT OF TRANSPORTATION

Federal Aviation Administration

14 CFR Part 25

[Docket No. FAA-2016-8247; Notice No. 25-16-08-SC]

Special Conditions: Aerocon Engineering Company, Boeing Model 777-200 Airplane; Access Hatch Installed Between the Cabin and the Class C Cargo Compartment To Allow In-Flight Access to the Cargo Compartment

AGENCY: Federal Aviation Administration (FAA), DOT.

ACTION: Notice of proposed special conditions.

SUMMARY: This action proposes special conditions for the Boeing Model 777-200 airplane. This airplane, as modified by Aerocon Engineering Company (Aerocon), will have a novel or unusual design feature when compared to the state of technology envisioned in the airworthiness standards for transport-category airplanes. This design feature is an access hatch, installed between the cabin and the Class C cargo compartment, to allow in-flight access to the Class C cargo compartment. The applicable airworthiness regulations do not contain adequate or appropriate safety standards for this design feature. These proposed special conditions contain the additional safety standards that the Administrator considers necessary to establish a level of safety equivalent to that established by the existing airworthiness standards.

DATES: Send your comments on or before December 12, 2016.

ADDRESSES: Send comments identified by docket number FAA-2016-8247 using any of the following methods:

• Federal eRegulations Portal: Go to http://www.regulations.gov/ and follow the online instructions for sending your comments electronically.

• Mail: Send comments to Docket Operations, M-30, U.S. Department of Transportation (DOT), 1200 New Jersey Avenue SE., Room W12-140, West Building Ground Floor, Washington, DC, 20590-0001.

• Hand Delivery or Courier: Take comments to Docket Operations in Room W12-140 of the West Building Ground Floor at 1200 New Jersey Avenue SE., Washington, DC, between 9 a.m. and 5 p.m., Monday through Friday, except Federal holidays.

• Fax: Fax comments to Docket Operations at 202-493-2251.

Privacy: The FAA will post all comments it receives, without change, to http://www.regulations.gov/, including any personal information the commenter provides. Using the search function of the docket Web site, anyone can find and read the electronic form of all comments received into any FAA docket, including the name of the individual sending the comment (or signing the comment for an association, business, labor union, etc.). DOT's complete Privacy Act Statement can be found in the Federal Register published on April 11, 2000 (65 FR 19477-19478), as well as at http://DocketsInfo.dot.gov/.

Docket: Background documents or comments received may be read at http://www.regulations.gov/ at any time. Follow the online instructions for accessing the docket or go to Docket Operations in Room W12-140 of the West Building Ground Floor at 1200 New Jersey Avenue SE., Washington, DC, between 9 a.m. and 5 p.m., Monday through Friday, except Federal holidays.

FOR FURTHER INFORMATION CONTACT: John Shelden, FAA, Airframe and Cabin Safety Branch, ANM-115, Transport Airplane Directorate, Aircraft Certification Service, 1601 Lind Avenue SW., Renton, Washington 98057-3356; telephone 425-227-2785; facsimile 425-227-1320.

SUPPLEMENTARY INFORMATION:

Comments Invited

We invite interested people to take part in this rulemaking by sending written comments, data, or views. The most helpful comments reference a specific portion of the special conditions, explain the reason for any recommended change, and include supporting data.

We will consider all comments we receive by the closing date for comments. We may change these special conditions based on the comments we receive.

Background

On June 26, 2015, Aerocon applied for a supplemental type certificate to install an access hatch between the cabin and Class C cargo compartment in the Boeing Model 777-200 airplane. This airplane is a twin-engine, transport-category airplane with a VIP interior configuration. The Model 777-200 has a maximum passenger capacity of 440, and a maximum takeoff weight of 535,000 pounds.

Type Certification Basis

Under the provisions of Title 14, Code of Federal Regulations (14 CFR) 21.101, Aerocon must show that the Boeing Model 777-200 airplane, as changed, continues to meet the applicable provisions of the regulations listed in Type Certificate No. T00001SE, or the applicable regulations in effect on the date of application for the change, except for earlier amendments as agreed upon by the FAA.

If the Administrator finds that the applicable airworthiness regulations (i.e., 14 CFR part 25) do not contain adequate or appropriate safety standards for the Boeing Model 777-200 airplane because of a novel or unusual design feature, special conditions are prescribed under the provisions of § 21.16.

Special conditions are initially applicable to the model for which they are issued. Should the applicant apply for a supplemental type certificate to modify any other model included on the same type certificate to incorporate the same novel or unusual design feature, these special conditions would also apply to the other model under § 21.101.

In addition to the applicable airworthiness regulations and special conditions, the Boeing Model 777-200 airplane, as modified by Aerocon, must comply with the fuel-vent and exhaust-emission requirements of 14 CFR part 34, and the noise-certification requirements of 14 CFR part 36

The FAA issues special conditions, as defined in 14 CFR 11.19, in accordance with § 11.38, and they become part of the type certification basis under § 21.101.

Novel or Unusual Design Features

The Boeing Model 777-200 airplane, as modified by Aerocon, will incorporate the following novel or unusual design feature: An access hatch installed between the cabin and the Class C cargo compartment, to allow in-flight access to the Class C cargo compartment.

Discussion

The VIP operator requests to have access to the aft lower-deck Class C cargo compartment on their Boeing Model 777-200 airplane to store trash during flight. The installation consists of an access hatch from the main passenger cabin, with an access ladder, and a trash container mounted on its own standard airliner pallet in the lower-deck Class C cargo compartment.

The FAA considers that the access hatch may impact the isolation of the passenger cabin from the cargo compartment. Isolation is necessary to protect the passengers, as required by § 25.857(c), from fire and smoke that may start within the cargo compartment. In addition, the in-flight access to the lower-deck Class C compartment creates unique hazards resulting from passengers having access to cargo and baggage in the compartment. These hazards include the safety of the persons entering the cargo compartment, possible hazards to the airplane as a result of the access, and security concerns with access to the checked baggage and cargo. The proposed special conditions defined herein provide additional requirements necessary to ensure sufficient cabin isolation from fire and smoke in this unusual design configuration, and for passenger safety while occupying the Class C compartment.

The current rules relating to Class C cargo compartments do not address provisions for in-flight accessibility. The intent of the Class C cargo compartment was that it be a self-contained and isolated compartment intended to carry baggage and cargo, but not intended for human habitation. The FAA gave no consideration to an in-flight-accessible Class C cargo compartment when the classification was first developed, as no manufacturer had ever incorporated such a feature into their design. Inherently, a “cargo compartment” was not intended for in-flight access, especially by the traveling public. An allowance has been made specifically for crew access into a Class B cargo compartment for the express purpose of firefighting. Access into a cargo compartment carries with it an increased level of risk to the occupant entering the compartment, and to the airplane, as baggage or cargo could shift, a decompression could occur in the compartment, or a fire could develop during flight.

The FAA has determined that the existing airworthiness standards do not contain adequate or appropriate safety standards relative to passenger access to cargo compartments. As a result, special conditions are the appropriate means to address this and all future in-flight-accessible Class C cargo compartments.

Based upon the above discussion, the cargo-compartment isolation criterion is the main concern related to the access-hatch design, which is intended to be installed between the cabin and the Class C cargo compartment.

These proposed special conditions contain the additional safety standards that the Administrator considers necessary to establish a level of safety equivalent to that established by the existing airworthiness standards.

Applicability

As discussed above, these proposed special conditions are applicable to the Boeing Model 777-200 airplane modified by Aerocon. Should Aerocon apply at a later date for a supplemental type certificate to modify any other model included on Type Certificate No. T00001SE to incorporate the same novel or unusual design feature, these special conditions would apply to that model as well.

Conclusion

This action affects only certain novel or unusual design features on one model series of airplane. It is not a rule of general applicability and affects only the applicant who applied to the FAA for approval of these features on the airplane.

List of Subjects in 14 CFR Part 25

Aircraft, Aviation safety, Reporting and recordkeeping requirements.

The authority citation for these special conditions is as follows:

Authority: 49 U.S.C. 106(g), 40113, 44701, 44702, 44704.

The Proposed Special Conditions

Accordingly, the Federal Aviation Administration (FAA) proposes the following special conditions as part of the type certification basis for Boeing Model 777-200 airplanes modified by Aerocon.

1. The flight deck must contain an indicator to advise the flightcrew when the access hatch is opened.

2. One cabin crewmember must be present to monitor the hatch from the main cabin when another cabin crewmember is using the access hatch to access the aft lower-deck Class C cargo compartment. This access-hatch procedure must be included in the Cabin Crew Operating Manual.

3. Means must be provided to keep the access hatch open while the aft lower-deck Class C cargo compartment is occupied during flight.

4. Access to the aft lower-deck Class C cargo compartment or using the access hatch is not allowed during:

a. Taxi, takeoff, and landing,

b. when the fasten-seat-belt sign is illuminated,

c. in the event of emergency not limited to smoke and fire detected in the cargo compartment.

5. A placard stating, “Do Not Enter During Taxi, Takeoff, Landing, or Emergency” (or similar wording) must be located outside of, and on or near the access hatch of, the aft lower-deck Class C cargo compartment.

6. The airplane must be operated as private, not for hire, not for common carriage. This provision does not preclude the operator from receiving remuneration to the extent consistent with 14 CFR parts 125 and 91, subpart F, as applicable.

7. Use of the access hatch, and access to the aft Class C cargo compartment, is limited to the crew only. A placard stating, “Crew Only Access” must be located outside of, and on or near the access hatch of, the aft lower-deck Class C cargo compartment.

8. The Airplane Flight Manual must instruct the crew to close the access hatch when crew are not accessing the aft lower-deck Class C cargo compartment.

9. Special conditions 4, 6, and 7 must be documented in the Limitations section of the Airplane Flight Manual.

Note: The airplane owner or operator must contact the Transport Security Administration (TSA) prior to operating within United States airspace to ensure that this design, and related operational procedures, comply with TSA requirements.

Issued in Renton, Washington, on October 14, 2016.
Michael Kaszycki,
Assistant Manager, Transport Airplane Directorate, Aircraft Certification Service.

[FR Doc. 2016-25810 Filed 10-25-16; 8:45 am]

BILLING CODE 4910-13-P